NUCLEAR REGULATORY COMMISSION

10 CFR Part 72

[NRC-2021-0052]

RIN 3150-AK63

List of Approved Spent Fuel Storage Casks: NAC International NAC-UMS® Universal Storage System, Certificate of Compliance No. 1015, Amendment No. 8

AGENCY: Nuclear Regulatory Commission.

ACTION: Direct final rule.

SUMMARY: The U.S. Nuclear Regulatory Commission (NRC) is amending its spent fuel storage regulations by revising the NAC International NAC-UMS® Universal Storage System listing within the “List of approved spent fuel storage casks” to include Amendment No. 8 to Certificate of Compliance No. 1015. Amendment No. 8 revises the certificate of compliance to: Add the storage of damaged boiling-water reactor spent fuel, including higher enrichment and higher burnup spent fuel; change the allowable fuel burnup range; expand the boiling-water reactor class 5 fuel inventory that could be stored in the cask; and revise definitions in the technical specifications.

DATES: This direct final rule is effective October 19, 2021, unless significant adverse comments are received by September 7, 2021. If this direct final rule is withdrawn as a result of such comments, timely notice of the withdrawal will be published in the Federal Register. Comments received after this date will be considered if it is practical to do so, but the NRC is able to ensure consideration only for comments received on or before this date. Comments received on this direct final rule will also be considered to be comments on a companion proposed rule published in the Proposed Rules section of this issue of the Federal Register.

ADDRESSES: Submit your comments, identified by Docket ID NRC-2021-0052, at https://www.regulations.gov. If your material cannot be submitted using https://www.regulations.gov, call or email the individuals listed in the FOR FURTHER INFORMATION CONTACT section of this document for alternate instructions.

For additional direction on obtaining information and submitting comments, see “Obtaining Information and Submitting Comments” in the SUPPLEMENTARY INFORMATION section of this document.

FOR FURTHER INFORMATION CONTACT: Bernard White, Office of Nuclear Material Safety and Safeguards; telephone: 301-415-6577; email: Bernard.White@nrc.gov or James Firth, Office of Nuclear Material Safety and Safeguards; telephone: 301-415-6628, email: James.Firth@nrc.gov. Both are staff of the U.S. Nuclear Regulatory Commission, Washington, DC 20555-0001.

SUPPLEMENTARY INFORMATION:

Table of Contents

I. Obtaining Information and Submitting Comments

II. Rulemaking Procedure

III. Background

IV. Discussion of Changes

V. Voluntary Consensus Standards

VI. Agreement State Compatibility

VII. Plain Writing

VIII. Environmental Assessment and Finding of No Significant Impact

IX. Paperwork Reduction Act Statement

X. Regulatory Flexibility Certification

XI. Regulatory Analysis

XII. Backfitting and Issue Finality

XIII. Congressional Review Act

XIV. Availability of Documents

I. Obtaining Information and Submitting Comments

A. Obtaining Information

Please refer to Docket ID NRC-2021-0052 when contacting the NRC about the availability of information for this action. You may obtain publicly available information related to this action by any of the following methods:

• Federal Rulemaking Website: Go to https://www.regulations.gov and search for Docket ID NRC-2021-0052. Address questions about NRC dockets to Dawn Forder, telephone: 301-415-3407, email: Dawn.Forder@nrc.gov. For technical questions contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• Attention: The PDR, where you may examine and order copies of public documents, is currently closed. You may submit your request to the PDR via email at pdr.resource@nrc.gov or call 1-800-397-4209 between 8:00 a.m. and 4:00 p.m. (EST), Monday through Friday, except Federal holidays.

B. Submitting Comments

Please include Docket ID NRC-2021-0052 in your comment submission. The NRC requests that you submit comments through the Federal rulemaking website at https://www.regulations.gov. If your material cannot be submitted using https://www.regulations.gov, call or email the individuals listed in the FOR FURTHER INFORMATION CONTACT section of this document for alternate instructions.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Rulemaking Procedure

This rule is limited to the changes contained in Amendment No. 8 to Certificate of Compliance No. 1015 and does not include other aspects of the NAC International NAC-UMS® Universal Storage System cask system design. The NRC is using the “direct final rule procedure” to issue this amendment because it represents a limited and routine change to an existing certificate of compliance that is expected to be non-controversial. The NRC has determined that, with the requested changes, adequate protection of public health and safety will continue to be reasonably assured. The amendment to the rule will become effective on October 19, 2021. However, if the NRC receives any significant adverse comment on this direct final rule by September 7, 2021, then the NRC will publish a document that withdraws this action and will subsequently address the comments received in a final rule as a response to the companion proposed rule published in the Proposed Rules section of this issue of the Federal Register. Absent significant modifications to the proposed revisions requiring republication, the NRC will not initiate a second comment period on this action.

A significant adverse comment is a comment where the commenter explains why the rule would be inappropriate, including challenges to the rule's underlying premise or approach, or would be ineffective or unacceptable without a change. A comment is adverse and significant if:

(1) The comment opposes the rule and provides a reason sufficient to require a substantive response in a notice-and-comment process. For example, a substantive response is required when:

(a) The comment causes the NRC to reevaluate (or reconsider) its position or conduct additional analysis;

(b) The comment raises an issue serious enough to warrant a substantive response to clarify or complete the record; or

(c) The comment raises a relevant issue that was not previously addressed or considered by the NRC.

(2) The comment proposes a change or an addition to the rule, and it is apparent that the rule would be ineffective or unacceptable without incorporation of the change or addition.

(3) The comment causes the NRC to make a change (other than editorial) to the rule, certificate of compliance, or technical specifications.

III. Background

Section 218(a) of the Nuclear Waste Policy Act of 1982, as amended, requires that “[t]he Secretary [of the Department of Energy] shall establish a demonstration program, in cooperation with the private sector, for the dry storage of spent nuclear fuel at civilian nuclear power reactor sites, with the objective of establishing one or more technologies that the [Nuclear Regulatory] Commission may, by rule, approve for use at the sites of civilian nuclear power reactors without, to the maximum extent practicable, the need for additional site-specific approvals by the Commission.” Section 133 of the Nuclear Waste Policy Act states, in part, that “[t]he Commission shall, by rule, establish procedures for the licensing of any technology approved by the Commission under section 219(a) [sic: 218(a)] for use at the site of any civilian nuclear power reactor.”

To implement this mandate, the Commission approved dry storage of spent nuclear fuel in NRC-approved casks under a general license by publishing a final rule that added a new subpart K in part 72 of title 10 of the Code of Federal Regulations (10 CFR) entitled “General License for Storage of Spent Fuel at Power Reactor Sites” (55 FR 29181; July 18, 1990). This rule also established a new subpart L in 10 CFR part 72 entitled “Approval of Spent Fuel Storage Casks,” which contains procedures and criteria for obtaining NRC approval of spent fuel storage cask designs. The casks approved for use under the terms, conditions, and specifications of their certificate of compliance or an amended certificate of compliance pursuant to this general license are listed in § 72.214. The NRC subsequently issued a final rule on October 19, 2000 (65 FR 62581), that approved the NAC International NAC-UMS® Universal Storage System cask system design and added it to the list of NRC-approved cask designs in § 72.214 as Certificate of Compliance No. 1015.

IV. Discussion of Changes

On December 18, 2018, as supplemented on April 24, 2020, and August 7, 2020, NAC International submitted an application to amend the NAC International NAC-UMS® Universal Storage System and the associated technical specifications for its use. The NAC International NAC-UMS® Universal Storage System consists of the following components: A transportable storage canister (TSC), which contains the spent fuel; a vertical concrete cask, which contains the TSC during storage; and a transfer cask, which contains the TSC during loading, unloading, and transfer operations. Amendment 8 would allow the storage of up to four damaged spent nuclear fuel assemblies from boiling-water reactors per cask and would allow a basket to hold the damaged boiling-water reactor spent nuclear fuel. Amendment No. 8 revises the certificate of compliance to (1) add the storage of damaged boiling-water reactor spent fuel, including higher enrichment and higher burnup spent fuel; (2) change the allowable fuel burnup range; (3) expand the boiling-water reactor class 5 fuel inventory that could be stored in the cask; and (4) change definitions in the technical specifications that are associated with the contents of the spent nuclear fuel stored in the cask (e.g., high burnup fuel and initial peak planar-average enrichment).

As documented in the preliminary safety evaluation report, the NRC performed a safety evaluation of the proposed certificate of compliance amendment request. The NRC determined that this amendment does not reflect a significant change in design or fabrication of the cask. Specifically, the NRC determined that the design of the cask would continue to maintain confinement, shielding, and criticality control in the event of each evaluated accident condition. This amendment does not reflect a significant change in design or fabrication of the cask. In addition, any resulting occupational exposure or offsite dose rates from the implementation of Amendment No. 8 would remain well within the limits specified by 10 CFR part 20, “Standards for Protection Against Radiation.” Thus, the NRC found there will be no significant change in the types or amounts of any effluent released, no significant increase in the individual or cumulative radiation exposure, and no significant increase in the potential for or consequences from radiological accidents.

The NRC staff determined that the amended NAC International NAC-UMS® Universal Storage System cask design, when used under the conditions specified in the certificate of compliance, the technical specifications, and the NRC's regulations, will meet the requirements of 10 CFR part 72; therefore, adequate protection of public health and safety will continue to be reasonably assured. When this direct final rule becomes effective, persons who hold a general license under § 72.210 may, consistent with the license conditions under § 72.212, load spent nuclear fuel into the NAC International NAC-UMS® Universal Storage System that meet the criteria of Amendment No. 8 to Certificate of Compliance No. 1015.

V. Voluntary Consensus Standards

The National Technology Transfer and Advancement Act of 1995 (Pub. L. 104-113) requires that Federal agencies use technical standards that are developed or adopted by voluntary consensus standards bodies unless the use of such a standard is inconsistent with applicable law or otherwise impractical. In this direct final rule, the NRC revises the NAC International NAC-UMS® Universal Storage System listed in § 72.214, “List of approved spent fuel storage casks.” This action does not constitute the establishment of a standard that contains generally applicable requirements.

VI. Agreement State Compatibility

Under the “Agreement State Program Policy Statement” approved by the Commission on October 2, 2017, and published in the Federal Register on October 18, 2017 (82 FR 48535), this rule is classified as Compatibility Category NRC—Areas of Exclusive NRC Regulatory Authority. The NRC program elements in this category are those that relate directly to areas of regulation reserved to the NRC by the Atomic Energy Act of 1954, as amended, or the provisions of 10 CFR chapter I. Therefore, compatibility is not required for program elements in this category. Although an Agreement State may not adopt program elements reserved to the NRC, and the Category “NRC” does not confer regulatory authority on the State, the State may wish to inform its licensees of certain requirements by means consistent with the State's administrative procedure laws.

VII. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31885).

VIII. Environmental Assessment and Finding of No Significant Impact

Under the National Environmental Policy Act of 1969, as amended, and the NRC's regulations in 10 CFR part 51, “Environmental Protection Regulations for Domestic Licensing and Related Regulatory Functions,” the NRC has determined that this direct final rule, if adopted, would not be a major Federal action significantly affecting the quality of the human environment and, therefore, an environmental impact statement is not required. The NRC has made a finding of no significant impact on the basis of this environmental assessment.

A. The Action

The action is to amend § 72.214 to revise the NAC International NAC-UMS® Universal Storage System listing within the “List of approved spent fuel storage casks” to include Amendment No. 8 to Certificate of Compliance No. 1015.

B. The Need for the Action

This direct final rule amends the certificate of compliance for the NAC International NAC-UMS® Universal Storage System within the list of approved spent fuel storage casks to allow power reactor licensees to store spent fuel at reactor sites in casks with the approved modifications under a general license. Specifically, Amendment No. 8 would allow the storage of up to four damaged spent nuclear fuel assemblies from boiling-water reactors per cask and would allow a basket to hold the damaged boiling-water reactor spent nuclear fuel. Amendment 8 would change the allowable fuel burnup range. Amendment 8 expands the boiling-water reactor class 5 fuel inventory that could be stored in the cask. Amendment 8 would also include changes to definitions in the technical specifications that are associated with the contents of the spent nuclear fuel stored in the cask (i.e., high burnup fuel and initial peak planar-average enrichment).

C. Environmental Impacts of the Action

On July 18, 1990 (55 FR 29181), the NRC issued an amendment to 10 CFR part 72 to provide for the storage of spent fuel under a general license in cask designs approved by the NRC. The potential environmental impact of using NRC-approved storage casks was analyzed in the environmental assessment for the 1990 final rule. The environmental assessment for this Amendment No. 8 tiers off of the environmental assessment for the July 18, 1990, final rule. Tiering on past environmental assessments is a standard process under the National Environmental Policy Act of 1969, as amended.

The NAC International NAC-UMS® Universal Storage System is designed to mitigate the effects of design basis accidents that could occur during storage. Design basis accidents account for human-induced events and the most severe natural phenomena reported for the site and surrounding area. Postulated accidents analyzed for an independent spent fuel storage installation, the type of facility at which a holder of a power reactor operating license would store spent fuel in casks in accordance with 10 CFR part 72, can include tornado winds and tornado-generated missiles, a design basis earthquake, a design basis flood, an accidental cask drop, lightning effects, fire, explosions, and other incidents.

The design of the cask would provide confinement, shielding, and criticality control in the event of each evaluated accident condition. If confinement, shielding, and criticality control are maintained, the environmental impacts resulting from an accident would be insignificant. This amendment does not reflect a significant change in design or fabrication of the cask. Because there are no significant design or process changes, any resulting occupational exposure or offsite dose rates from the implementation of Amendment No. 8 would remain well within the 10 CFR part 20 limits. Therefore, the proposed changes will not result in any radiological or non-radiological environmental impacts that significantly differ from the environmental impacts evaluated in the environmental assessment supporting the July 18, 1990, final rule. There will be no significant change in the types or significant revisions in the amounts of any effluent released, no significant increase in the individual or cumulative radiation exposures, and no significant increase in the potential for, or consequences from, radiological accidents. The NRC documented its safety findings in the preliminary safety evaluation report.

D. Alternative to the Action

The alternative to this action is to deny approval of Amendment No. 8 and not issue the direct final rule. Consequently, any 10 CFR part 72 general licensee that seeks to load spent nuclear fuel into the NAC-UMS® Universal Storage System in accordance with the changes described in proposed Amendment No. 8 would have to request an exemption from the requirements of §§ 72.212 and 72.214. Under this alternative, interested licensees would have to prepare, and the NRC would have to review, a separate exemption request, thereby increasing the administrative burden upon the NRC and the costs to each licensee. The environmental impacts would be the same as the proposed action.

E. Alternative Use of Resources

Approval of Amendment No. 8 to Certificate of Compliance No. 1015 would result in no irreversible commitment of resources.

F. Agencies and Persons Contacted

No agencies or persons outside the NRC were contacted in connection with the preparation of this environmental assessment.

G. Finding of No Significant Impact

The environmental impacts of the action have been reviewed under the requirements in the National Environmental Policy Act of 1969, as amended, and the NRC's regulations in subpart A of 10 CFR part 51. Based on the foregoing environmental assessment, the NRC concludes that this direct final rule, “List of Approved Spent Fuel Storage Casks: NAC International NAC-UMS® Universal Storage System, Certificate of Compliance No. 1015, Amendment No. 8,” will not have a significant effect on the human environment. Therefore, the NRC has determined that an environmental impact statement is not necessary for this direct final rule.

IX. Paperwork Reduction Act Statement

This direct final rule does not contain any new or amended collections of information subject to the Paperwork Reduction Act of 1995 (44 U.S.C. 3501 et seq.). Existing collections of information were approved by the Office of Management and Budget, approval number 3150-0132.

Public Protection Notification

The NRC may not conduct or sponsor, and a person is not required to respond to, a request for information or an information collection requirement unless the requesting document displays a currently valid Office of Management and Budget control number.

X. Regulatory Flexibility Certification

The Regulatory Flexibility Act of 1980 (5 U.S.C. 601 et seq.) (RFA) requires agencies to consider the impact of their rules on small entities, including small businesses, not-for-profit organizations, and small governmental jurisdictions. Agencies must perform a review to determine whether a rule will have a significant economic impact on a substantial number of small entities. If the agency determines that it will, the agency must prepare a regulatory flexibility analysis as described in sections 603 and 604 of the RFA. However, if an agency determines that a rule is not expected to have a significant economic impact on a substantial number of small entities, section 605(b) of the RFA provides that a regulatory flexibility analysis is not required if the head of the agency certifies that the rule will not, if promulgated, have a significant economic impact on a substantial number of small entities. The certification must include a statement providing the factual basis for this determination and the reasoning should be clear. The Executive Director for Operations has been delegated the authority to ensure this rule complies with the Regulatory Flexibility Act.

The NRC has established size standards at 10 CFR 2.810. This direct final rule affects only those authorized to possess or operate nuclear power reactors and NAC International. NAC International is owned by Hitz Holdings U.S.A. Inc., a wholly owned subsidiary of Hitachi Zosen Corporation, which is not a small entity. Under 10 CFR 2.810(e), a licensee who is a subsidiary of a large entity does not qualify as a small entity. This direct final rule would allow persons authorized to possess or operate a nuclear power reactor, who hold a general license under § 72.210, consistent with the license conditions under § 72.212, to load spent nuclear fuel into the NAC International NAC-UMS® Universal Storage System that meet the criteria of Amendment No. 8 to Certificate of Compliance No. 1015. The use of this general license to store spent nuclear fuel using Amendment No. 8 to Certificate of Compliance No. 1015 would reduce the need for and burden from requesting additional site-specific approvals and exemptions. Also, based on the NRC size standards at 10 CFR 2.810, none of the existing nuclear power plants storing spent nuclear fuel are small entities. Pursuant to its delegated authority, the Executive Director for Operations certifies under section 605 of the Regulatory Flexibility Act “that the rule will not, if promulgated, have a significant economic impact on a substantial number of small entities.”

XI. Regulatory Analysis

On July 18, 1990 (55 FR 29181), the NRC issued an amendment to 10 CFR part 72 to provide for the storage of spent nuclear fuel under a general license in cask designs approved by the NRC. Any nuclear power reactor licensee can use NRC-approved cask designs to store spent nuclear fuel if (1) it notifies the NRC in advance, (2) the spent fuel is stored under the conditions specified in the cask's certificate of compliance, and (3) and the conditions of the general license are met. A list of NRC-approved cask designs is contained in § 72.214. On October 19, 2000 (65 FR 62581), the NRC issued an amendment to 10 CFR part 72 that approved the NAC International NAC-UMS® Universal Storage System by adding it to the list of NRC-approved cask designs in § 72.214.

On December 18, 2018, as supplemented on April 24, 2020, and August 7, 2020, NAC International submitted an application to amend the NAC International NAC-UMS® Universal Storage System as described in Section IV, “Discussion of Changes,” of this document. When this direct final rule becomes effective, persons authorized to possess or operate a nuclear power reactor and who hold a general license under § 72.210 would be allowed to load spent nuclear fuel into the NAC International NAC-UMS® Universal Storage System that meet the criteria of Amendment No. 8 to Certificate of Compliance No. 1015, consistent with the license conditions under § 72.212.

The alternative to this action is to withhold approval of Amendment No. 8 and to require any 10 CFR part 72 general licensee seeking to load spent nuclear fuel into the NAC International NAC-UMS® Universal Storage System under the changes described in Amendment No. 8 to request an exemption from the requirements of §§ 72.212 and 72.214. Under this alternative, each interested 10 CFR part 72 licensee would have to prepare, and the NRC would have to review, a separate exemption request, thereby increasing the administrative burden upon the NRC and the costs to each licensee.

Approval of this direct final rule is consistent with previous NRC actions. Further, as documented in the preliminary safety evaluation report and environmental assessment, this direct final rule will have no adverse effect on public health and safety or the environment. This direct final rule has no significant identifiable impact or benefit on other government agencies. Based on this regulatory analysis, the NRC concludes that the requirements of this direct final rule are commensurate with the NRC's responsibilities for public health and safety and the common defense and security. No other available alternative is believed to be as satisfactory; therefore, this action is recommended.

XII. Backfitting and Issue Finality

The NRC has determined that the backfit rule (§ 72.62) does not apply to this direct final rule. Therefore, a backfit analysis is not required. This direct final rule revises Certificate of Compliance No. 1015 for the NAC International NAC-UMS® Universal Storage System, as currently listed in § 72.214. The revision consists of the changes in Amendment No. 8 previously described, as set forth in the revised certificate of compliance and technical specifications.

Amendment No. 8 to Certificate of Compliance No. 1015 for the NAC International NAC-UMS® Universal Storage System was initiated by NAC International and was not submitted in response to new NRC requirements, or an NRC request for amendment. Amendment No. 8 applies only to new casks fabricated and used under Amendment No. 8. These changes do not affect existing users of the NAC International NAC-UMS® Universal Storage System, and the current Amendment No. 7 continues to be effective for existing users. While current users of this storage system may comply with the new requirements in Amendment No. 8, this would be a voluntary decision on the part of current users.

For these reasons, Amendment No. 8 to Certificate of Compliance No. 1015 does not constitute backfitting under § 72.62 or § 50.109(a)(1), or otherwise represent an inconsistency with the issue finality provisions applicable to combined licenses in 10 CFR part 52. Accordingly, the NRC has not prepared a backfit analysis for this rulemaking.

XIII. Congressional Review Act

This direct final rule is not a rule as defined in the Congressional Review Act.

XIV. Availability of Documents

The documents identified in the following table are available to interested persons, as indicated.

Document | ADAMS accession No.
Submission of a Request to Amend the U.S. Nuclear Regulatory Commission Certificate of Compliance No. 1015 for the NAC-UMS Cask System, December 18, 2019 | ML20006D749
Application for Amendment No. 8 to the Model No. NAC-UMS Storage Cask—Acceptance Letter, March 17, 2020 | ML20076A546
NAC International, Submittal of Supplement to Amend the NRC Certificate of Compliance No. 1015 for the NAC-UMS Cask System, April 24, 2020 | ML20122A201
Application for Amendment No. 8 to the Model No. NAC-UMS Storage Cask—Request for Additional Information, June 25, 2020 | ML20170A800
Submission of Responses to the U.S. Nuclear Regulatory Commission Request for Additional Information for Certificate of Compliance No. 1015 for the NAC-UMS Cask System, August 7, 2020 | ML20227A066
Memorandum to J. Cai re: User Need for Rulemaking for Amendment No. 8 Request, February 23, 2021 | ML20358A255
Proposed Certificate of Compliance No. 1015 Amendment No. 8, Technical Specifications, Appendix A | ML20358A257
Proposed Certificate of Compliance No. 1015, Amendment No. 8, Technical Specifications Appendix B | ML20358A258
Draft Certificate of Compliance No. 1015 Amendment No. 8 | ML20358A256
Certificate of Compliance No. 1015 Amendment No. 8, Preliminary Safety Evaluation Report | ML20358A259

The NRC may post materials related to this document, including public comments, on the Federal rulemaking website at https://www.regulations.gov under Docket ID NRC-2021-0052.

List of Subjects in 10 CFR Part 72

Administrative practice and procedure, Hazardous waste, Indians, Intergovernmental relations, Nuclear energy, Penalties, Radiation protection, Reporting and recordkeeping requirements, Security measures, Spent fuel, Whistleblowing.

For the reasons set out in the preamble and under the authority of the Atomic Energy Act of 1954, as amended; the Energy Reorganization Act of 1974, as amended; the Nuclear Waste Policy Act of 1982, as amended; and 5 U.S.C. 552 and 553; the NRC is adopting the following amendments to 10 CFR part 72:

PART 72—LICENSING REQUIREMENTS FOR THE INDEPENDENT STORAGE OF SPENT NUCLEAR FUEL, HIGH-LEVEL RADIOACTIVE WASTE, AND REACTOR-RELATED GREATER THAN CLASS C WASTE

1. The authority citation for part 72 continues to read as follows:

Authority: Atomic Energy Act of 1954, secs. 51, 53, 57, 62, 63, 65, 69, 81, 161, 182, 183, 184, 186, 187, 189, 223, 234, 274 (42 U.S.C. 2071, 2073, 2077, 2092, 2093, 2095, 2099, 2111, 2201, 2210e, 2232, 2233, 2234, 2236, 2237, 2238, 2273, 2282, 2021); Energy Reorganization Act of 1974, secs. 201, 202, 206, 211 (42 U.S.C. 5841, 5842, 5846, 5851); National Environmental Policy Act of 1969 (42 U.S.C. 4332); Nuclear Waste Policy Act of 1982, secs. 117(a), 132, 133, 134, 135, 137, 141, 145(g), 148, 218(a) (42 U.S.C. 10137(a), 10152, 10153, 10154, 10155, 10157, 10161, 10165(g), 10168, 10198(a)); 44 U.S.C. 3504 note.

2. In § 72.214, revise Certificate of Compliance No. 1015 to read as follows:

§ 72.214 List of approved spent fuel storage casks.

* * * * *

Certificate Number: 1015.

Initial Certificate Effective Date: November 20, 2000.

Amendment Number 1 Effective Date: February 20, 2001.

Amendment Number 2 Effective Date: December 31, 2001.

Amendment Number 3 Effective Date: March 31, 2004.

Amendment Number 4 Effective Date: October 11, 2005.

Amendment Number 5 Effective Date: January 12, 2009.

Amendment Number 6 Effective Date: January 7, 2019.

Amendment Number 7 Effective Date: July 29, 2019.

Amendment Number 8 Effective Date: October 19, 2021.

SAR Submitted by: NAC International, Inc.

SAR Title: Final Safety Analysis Report for the NAC-UMS Universal Storage System.

Docket Number: 72-1015.

Certificate Expiration Date: November 20, 2020.

Model Number: NAC-UMS.

* * * * *

Dated: July 26, 2021.
For the Nuclear Regulatory Commission.
Margaret M. Doane,
Executive Director for Operations.

[FR Doc. 2021-16702 Filed 8-4-21; 8:45 am]

BILLING CODE 7590-01-P